DEPARTMENT OF ENERGY

Federal Energy Regulatory Commission

Combined Notice of Filings #1

Take notice that the Commission received the following electric rate filings:

Docket Numbers: ER10-2290-005.

Applicants: Avista Corporation.

Description: Triennial Market Power Update for the Northwest Region of Avista Corporation.

Filed Date: 6/30/16.

Accession Number: 20160630-5409.

Comments Due: 5 p.m. ET 8/29/16.

Docket Numbers: ER10-3117-007; ER15-1308-002; ER15-1173-004; ER15-1172-004; ER15-1171-004; ER15-1170-004; ER14-2823-006; ER13-445-008; ER11-4061-008; ER11-4060-008; ER10-3300-012; ER10-3115-005.

Applicants: Badger Creek Limited, Bear Mountain Ltd., Chalk Cliff Limited, Double C Generation Limited Partnership, High Sierra Ltd., Kern Front Ltd., Kingfisher Wind, LLC, La Paloma Generating Company, LLC, Lea Power Partners, LLC, Live Oak Ltd., McKittrick Ltd., Waterside Power, LLC.

Description: Supplement to April 25, 2016 Notice of Change in Status by Lea Power Partners, LLC, et al.

Filed Date: 6/30/16.

Accession Number: 20160630-5398.

Comments Due: 5 p.m. ET 7/21/16.

Docket Numbers: ER10-3246-008; ER10-2475-013; ER10-2474-013; ER13-1266-008.

Applicants: PacifiCorp, Nevada Power Company, Sierra Pacific Power Company, CalEnergy, LLC.

Description: Triennial Market Power Analysis for the Northwest Region of the BHE Northwest Companies under ER10-3246, et al.

Filed Date: 6/30/16.

Accession Number: 20160630-5400.

Comments Due: 5 p.m. ET 8/29/16.

Docket Numbers: ER13-520-006; ER13-521-006; ER13-1441-006; ER13-1442-006; ER12-1626-007; ER13-1266-009; ER13-1267-006; ER13-1268-006; ER13-1269-006; ER13-1270-006; ER13-1271-006; ER13-1272-006; ER13-1273-006; ER10-2605-010.

Applicants: Pinyon Pines Wind I, LLC, Pinyon Pines Wind II, LLC, Solar Star California XIX, LLC, Solar Star California XX, LLC, Topaz Solar, LLC, CalEnergy, LLC, CE Leathers Company, Del Ranch Company, Elmore Company, Fish Lake Power LLC, Salton Sea Power Generation Company, Salton Sea Power LLC, Vulcan/BN Geothermal Power Company, Yuma Cogeneration Associates.

Description: Triennial Filing for the Southwest Region of the BHE Renewables, LLC Companies, et al.

Filed Date: 6/30/16.

Accession Number: 20160630-5403.

Comments Due: 5 p.m. ET 8/29/16.

Docket Numbers: ER14-1656-009.

Applicants: CSOLAR IV West, LLC.

Description: Updated Market Power Analysis of CSOLAR IV WEST, LLC.

Filed Date: 6/30/16.

Accession Number: 20160630-5401.

Comments Due: 5 p.m. ET 8/29/16.

Docket Numbers: ER14-2244-001.

Applicants: La Paloma Generating Company, LLC.

Description: Market-Based Triennial Review Filing: Triennial Updated Market Power Analysis for the Southwest Region and Revised MBR to be effective 8/29/2016.

Filed Date: 6/30/16.

Accession Number: 20160630-5295.

Comments Due: 5 p.m. ET 8/29/16.

Docket Numbers: ER16-292-000.

Applicants: Northern Virginia Electric Cooperative, Inc.

Description: Northern Virginia Electric Cooperative, Inc. submits tariff filing per 35.19a(b): Refund Report (Supplement) to be effective N/A.

Filed Date: 6/30/16.

Accession Number: 20160630-5405.

Comments Due: 5 p.m. ET 7/21/16.

Docket Numbers: ER16-748-002.

Applicants: Sentinel Energy Center, LLC.

Description: Triennial Market Power Update of Sentinel Energy Center, LLC.

Filed Date: 6/30/16.

Accession Number: 20160630-5404.

Comments Due: 5 p.m. ET 8/29/16.

Docket Numbers: ER16-1649-002.

Applicants: California Independent System Operator Corporation.

Description: Compliance filing: 20160701_Compliance on June 1, 2016 Order—Aliso Canyon to be effective 6/2/2016.

Filed Date: 7/1/16.

Accession Number: 20160701-5004.

Comments Due: 5 p.m. ET 7/22/16.

Docket Numbers: ER16-1690-000.

Applicants: Public Service Company of Colorado.

Description: Supplement to Public Service Company of Colorado tariff filing (Transmittal Letter).

Filed Date: 6/28/16.

Accession Number: 20160628-5273.

Comments Due: 5 p.m. ET 7/19/16.

Docket Numbers: ER16-1924-001.

Applicants: Bison Solar LLC.

Description: Tariff Amendment: Bison Solar Amended Market Based Rate Tariff to be effective 8/1/2016.

Filed Date: 7/1/16.

Accession Number: 20160701-5080.

Comments Due: 5 p.m. ET 7/22/16.

Docket Numbers: ER16-1925-001.

Applicants: Pavant Solar II LLC.

Description: Tariff Amendment: Pavant Amended MBR to be effective 8/1/2016.

Filed Date: 7/1/16.

Accession Number: 20160701-5082.

Comments Due: 5 p.m. ET 7/22/16.

Docket Numbers: ER16-1926-001.

Applicants: San Isabel Solar LLC.

Description: Tariff Amendment: San Isabel Solar Amended Market Based Rate Tariff to be effective 8/1/2016.

Filed Date: 7/1/16.

Accession Number: 20160701-5066.

Comments Due: 5 p.m. ET 7/22/16.

Docket Numbers: ER16-2109-000.

Applicants: Southern California Edison Company.

Description: Section 205(d) Rate Filing: Service Agreement No. 885, PARS Palmdale 1 Project to be effective 8/30/2016.

Filed Date: 6/30/16.

Accession Number: 20160630-5302.

Comments Due: 5 p.m. ET 7/21/16.

Docket Numbers: ER16-2110-000.

Applicants: Southern California Edison Company.

Description: Tariff Cancellation: Notices of Cancellation GIA & DSA SunEdison ? 2220 Almond Avenue Project to be effective 6/15/2016.

Filed Date: 6/30/16.

Accession Number: 20160630-5319.

Comments Due: 5 p.m. ET 7/21/16.

Docket Numbers: ER16-2111-000.

Applicants: Florida Power & Light Company.

Description: Section 205(d) Rate Filing: FPL and FMPA Transmission Service Agreement For St. Lucie Unit No. 2 to be effective 7/1/2016.

Filed Date: 6/30/16.

Accession Number: 20160630-5328.

Comments Due: 5 p.m. ET 7/21/16.

Docket Numbers: ER16-2112-000.

Applicants: Pacific Gas and Electric Company.

Description: Section 205(d) Rate Filing: CDWR Work Performance Agreement for the Thermalito Restoration Project (SA 275) to be effective 7/1/2016.

Filed Date: 6/30/16.

Accession Number: 20160630-5345.

Comments Due: 5 p.m. ET 7/21/16.

Docket Numbers: ER16-2113-000.

Applicants: Portland General Electric Company.

Description: Compliance filing: Compliance Filing for Order No. 819 to be effective 2/25/2016.

Filed Date: 7/1/16.

Accession Number: 20160701-5003.

Comments Due: 5 p.m. ET 7/22/16.

Docket Numbers: ER16-2114-000.

Applicants: Southwest Power Pool, Inc.

Description: Section 205(d) Rate Filing: 3218 KCP&L and KCP&L-GMO Interconnection Agreement to be effective 6/27/2016.

Filed Date: 7/1/16.

Accession Number: 20160701-5058.

Comments Due: 5 p.m. ET 7/22/16.

Docket Numbers: ER16-2115-000.

Applicants: NorthWestern Corporation.

Description: Tariff Cancellation: Notice of Cancellation—SA 744, Firm Point-to-Point TSA with Energy Keepers Inc to be effective 9/1/2016.

Filed Date: 7/1/16.

Accession Number: 20160701-5084.

Comments Due: 5 p.m. ET 7/22/16.

Docket Numbers: ER16-2116-000.

Applicants: Virginia Electric and Power Company, PJM Interconnection, L.L.C.

Description: Section 205(d) Rate Filing: VEPCO submits revisions to OATT, Attach. H-16A to address income tax issues to be effective 9/1/2016.

Filed Date: 7/1/16.

Accession Number: 20160701-5095.

Comments Due: 5 p.m. ET 7/22/16.

Docket Numbers: ER16-2117-000.

Applicants: Southwest Power Pool, Inc.

Description: Section 205(d) Rate Filing: 2881R3 City of Chanute, KS NITSA NOA to be effective 9/1/2016.

Filed Date: 7/1/16.

Accession Number: 20160701-5103.

Comments Due: 5 p.m. ET 7/22/16.

Docket Numbers: ER16-2118-000.

Applicants: Midcontinent Independent System Operator, Inc.

Description: Section 205(d) Rate Filing: 2016-07-01_SA 2925 ITC Midwest-Prairie Wind Energy GIA (J344) to be effective 7/2/2016.

Filed Date: 7/1/16.

Accession Number: 20160701-5116.

Comments Due: 5 p.m. ET 7/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2016.
Nathaniel J. Davis, Sr.,
Deputy Secretary.

[FR Doc. 2016-16242 Filed 7-8-16; 8:45 am]

BILLING CODE 6717-01-P